DEPARTMENT OF STATE

[Public Notice 6682]

Notice of Public Meeting on FY 2010 Refugee Admissions Program

There will be a meeting on the President's FY 2010 Refugee Admissions Program on Thursday, July 9, 2009 from 3 p.m. to 5 p.m. The meeting will be held at the Refugee Processing Center, 1401 Wilson Boulevard, Suite 700, Arlington, Virginia. The meeting's purpose is to hear the views of attendees on the appropriate size and scope of the FY 2010 Refugee Admissions Program.

Seating is limited. Persons wishing to attend this meeting must notify the Bureau of Population, Refugees, and Migration at telephone (202) 663-1006 by 5 p.m. on Friday, June 26, 2009, to reserve a seat. Persons wishing to present comments should submit them by 5 on Thursday, July 2, 2009. All written comments should either be e-mailed to spruellda@state.gov or faxed to (202) 663-1364.

If you have questions about the public meeting, please contact Delicia Spruell, PRM/Admissions Program Officer at (202) 663-1006. Information about the Refugee Admissions Program may be found at http://www.state.gov/g/prm/.

Dated: June 18, 2009.
Samuel M. Witten,
Acting Assistant Secretary, Bureau of Population, Refugees and Migration, Department of State.

[FR Doc. E9-15171 Filed 6-25-09; 8:45 am]

BILLING CODE 4710-33-P